DEPARTMENT OF DEFENSE

Department of the Army; Corps of Engineers

Release of Remedial Investigation (RI), Feasibility Study (FS), and Proposed Plan (PP) for Cleanup of Radiological Contamination at the Madison Site for Public Review

AGENCY: U.S. Army Corps of Engineers, St. Louis District, DOD.

ACTION: Notice of availability.

SUMMARY: The St. Louis District, U.S. Army Corps of Engineers (USACE), in consultation with the U.S. Environmental Protection Agency (EPA), propose to clean up contaminants resulting from the extrusion of uranium metal at the Madison Site. This site is one of several being addressed under the Comprehensive Environmental Response, Compensation, and Liability Act (CERCLA). Alternatives, which identify the range of cleanup options, have been developed and evaluated in the Madison Site Feasibility Study (FS). USACE has identified Alternative 4 as the preferred remediation alternative described in the Proposed Plan (PP) based on the information available at this time. The final decision on the remedy to be implemented will be documented in a Record Decision (ROD) only after consideration of all comments received and any new information presented.

FOR FURTHER INFORMATION CONTACT: Questions regarding the Madison RI/FS/PP may be directed to Mr. Lou Dell'Orco, U.S. Army Corps of Engineers, St. Louis District, FUSRAP Project Office, 9170 Latty Avenue, Berkeley, Missouri 63134, by phone (314) 524-4083, or by e-mail atLouis.A.Dellorco@ mvs02.usace.army.mil.

SUPPLEMENTARY INFORMATION:

1. Proposed Action

The U.S. Army Corps of Engineers (USACE), St. Louis District, is issuing the Remedial Investigation (RI), Feasibility Study (FS), and Proposed Plan (PP) for public comment. The site became contaminated as a result of activities in support of the nation's early atomic energy program. During the late 1950s and early 1960s, the site was used to perform extrusions of uranium metal and straightening of extruded uranium rods for the U.S. Atomic Energy Commission (AEC). The cleanup of this site is being managed by the Corps of Engineers under the Formerly Utilized Sites Remedial Action Program (FUSRAP). The alternatives evaluated in the Feasibility Study are summarized in the Proposed Plan.

2. Project Alternatives

a. Alternative 1—No Action

Mandated by the Comprehensive Environmental Response, Compensation, and Liability Act (CERCLA), periodic environmental monitoring would be conducted, but no remedial action would be conducted.

b. Alternative 2—Institutional Controls

Institutional controls would be implemented to prevent unacceptable exposures to site contamination.

c. Alternative 3—Containment

Alternative 3 incorporates containment, institutional controls, and environmental monitoring to prevent contaminants from becoming mobilized and reduce the potential for direct exposure. Under this alternative, accessible contamination at the 25-foot and 36-foot levels and the beams in the high bay that are accessible from the windows would be fixed in place. When use of the building is discontinued, radiological controls would be provided for decontamination prior to demolition.

d. Alternative 4—Decontamination of Accessible Surfaces and Release of Building

This alternative includes decontamination of accessible contamination at the 25-foot and 36-foot levels and the beams is the high bay that are accessible from the window. Inaccessible areas are defined as those surfaces that cannot be accessed either from the high-bay crane or through windows. Inaccessible areas include the high bay areas above the 36-foot level and select other areas around live power lines.

3. Scoping Process

Federal, state and local agencies, and interested individuals are invited to participate in the scoping process to determine the range of issues and alternatives to be addressed. The U.S. Army Corps of Engineers will hold a public meeting to receive oral and written comments at the Madison City Hall at 615 Madison Avenue in Madison, Illinois on Thursday, February 17th, from 5 to 9 p.m. In addition, written comments will be accepted during the 30-day period following the Remedial Investigation (RI) and FS/PP release by Ms. Sharon R. Cotner, U.S. Army Corps of Engineers, St. Louis District, FUSRAP Project Office, 9170 Latty Avenue, Berkeley, Missouri 63134. Please call (314) 524-4083 for further information.

4. Availability of the RI/FS/PP

Copies of the RI/FS/PP are available for review starting on or about January 28, 2000 until February 28, 2000 during business hours at the following locations: U.S. Army Corps of Engineers, St. Louis District, FUSRAP Project Office, 9170 Latty Avenue, Berkeley, Missouri 63134; or the Madison Public Library, 1700 5th Street, Madison, Illinois 62060, (618) 876-8448.

Written comments will be accepted during the 30-day period following FS/PP release at FUSRAP Project Office at the above address. Oral comments may be provided at the Public Meeting on Thursday, February 17th, from 5 to 9 p.m. at the Madison City Hall at 615 Madison Avenue in Madison, Illinois. Please contact the Corps of Engineers, St. Louis District, FUSRAP Project Office for more information at (314) 524-4083.

Availability of RI/FS/PP.

Louis A. Dell'Orco,
FUSRAP Project Manager.

[FR Doc. 00-2037 Filed 1-28-00; 8:45 am]

BILLING CODE 3710-55-M